DEPARTMENT OF DEFENSE

Office of the Secretary

Reserve Forces Policy Board; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Reserve Forces Policy Board (RFPB) will take place.

DATES: The RFPB will hold an open meeting to the public on Wednesday, September 13, 2023, from 8:30 a.m. to 5 p.m.

ADDRESSES: The RFPB meeting will be held in person at the Army Navy Country Club, 1700 Army Navy Dr., Arlington, VA 22202.

FOR FURTHER INFORMATION CONTACT: Colonel Rich Sudder, Designated Federal Officer (DFO) at richard.m.sudder.mil@mail.mil or 703-697-2107. Mailing address is Reserve Forces Policy Board, 5109 Leesburg Pike, Suite 501, Falls Church, VA 22041. The most up-to-date changes to the meeting agenda can be found on the website: https://rfpb.defense.gov/.

SUPPLEMENTARY INFORMATION: Due to circumstances beyond the control of the Designated Federal Officer, the Reserve Forces Policy Board was unable to provide public notification required by 41 CFR 102-3.150(a) concerning its September 13, 2023, meeting. Accordingly, the Advisory Committee Management Officer for the Department of Defense, pursuant to 41 CFR 102-3.150(b), waives the 15-calendar day notification requirement. This meeting is being held under the provisions of chapter 10 of title 5, United States Code (U.S.C.) (commonly known as the “Federal Advisory Committee Act” or “FACA”), 5 U.S.C. 552b (commonly known as the “Government in the Sunshine Act”), and 41 CFR 102-3.140 and 102-3.150.

Purpose of the Meeting: The purpose of the meeting is to obtain, review, and evaluate information related to strategies, policies, and practices designed to improve and enhance the capabilities, efficiency, and effectiveness of the Reserve Components.

Agenda: The RFPB will hold an open meeting to the public to focus discussions with key stakeholders on the following topics: the Office of the Under Secretary of Defense for Personnel and Readiness (USD(P&R)) leadership will discuss strategic guidance with its effects on the Reserve Component's policies and programs and Reserve Component challenges in supporting the Total Force; key representatives from the Office of Secretary of Defense (OSD) and the Military Services will discuss updates on Reserve Component's priorities for equipment and modernization and potential impacts of the current Presidential Drawdown Authority on the Reserve Component's readiness and capabilities to support the National Defense Strategy; key representatives from OSD will discuss the defense industrial base and national supply chain infrastructure and the ability to sustain the Total Force for homeland defense and overseas operations; senior enlisted leaders from the Reserve Component will provide updates on the health of the force and current challenges before the Reserve Component; key representatives from the Military Services and National Security Academia will discuss impacts of artificial intelligence and machine learning to the Total Force's warfighting readiness, capability, and capacity; the RFPB Subcommittees—the Subcommittee for Integration of Total Force Personnel Policy, the Subcommittee for the Reserve Components' Role in Homeland Defense and Support to Civil Authorities, and the Subcommittee for Total Force Integration—will conduct discussions on their subcommittee's priorities and focus areas received from this meeting's discussions and other areas where the Board can best provide support to the taskings of the Secretary of Defense and the Sponsor, USD(P&R); and will conclude with the RFPB Chair's closing remarks.

Meeting Accessibility: Pursuant to 5 U.S.C. 552b and 41 CFR 102-3.140 through 102-3.165, and subject to the availability of space, the meeting is open to the public from 8:30 a.m. to 5 p.m. (EST) September 13, 2023. The meeting will be held in person at the Army Navy Country Club, 1700 Army Navy Dr., Arlington, VA 22202. All members of the public who wish to attend the public meeting must contact Colonel Richard Sudder, DFO, no later than 12 p.m. on Friday, September 8, 2023, as listed in the FOR FURTHER INFORMATION CONTACT section.

Special Accommodations: Individuals requiring special accommodations to access the public meeting should contact Colonel Sean F. Counihan, sean.f.counihan.mil@mail.mil no later than Friday, September 8, 2023, so that appropriate arrangements can be made.

Written Statements: Pursuant to 41 CFR 102-3.140 and section 10(a)(3) of the FACA, the public and interested parties may submit written statements to the RFPB at any time about its approved agenda or at any time on the Board's mission. Written statements should be submitted to the RFPB's DFO at the email address listed in the FOR FURTHER INFORMATION CONTACT section. If statements pertain to a specific topic being discussed at the planned meeting, then these statements must be submitted no later than 5 business days prior to the scheduled meeting date. Written statements received after this date may not be provided to or considered by the Board until its next scheduled meeting. The DFO will review all timely submitted written statements and provide copies to all the committee members before the meeting that is the subject of this notice. Please note that all submitted comments and public presentations will be treated as public documents and will be made available for public inspection, including, but not limited to, being posted on the Board's website.

Dated: August 30, 2023.
Aaron T. Siegel,
Alternate OSD Federal Register Liaison Officer, Department of Defense.

[FR Doc. 2023-19348 Filed 9-6-23; 8:45 am]

BILLING CODE 5001-06-P